DEPARTMENT OF COMMERCE

National Oceanic and Atmospheric Administration

RIN 0648-XE149

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Scallop Committee Meeting on Thursday, September 17, 2015 to consider actions affecting New England fisheries in the exclusive economic zone (EEZ). Recommendations from this group will be brought to the full Council for formal consideration and action, if appropriate.

DATES: This meeting will be held on Thursday September 17, 2015 at 10 a.m.

ADDRESSES: The meeting will be held at the Hilton Garden Inn, 100 Boardman Street, Boston, MA 02128; telephone: (617) 567-6789; fax: (617) 561-0798.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Agenda

The Committee will review preliminary 2015 scallop survey results and discuss initial recommendations from the Scallop Plan Development Team (PDT) for FY 2016 and FY 2017 (default) fishery specifications (Framework 27). The Committee will also provide input on potential Council work priorities for 2016 related to the scallop fishery management plan, and potentially identify recommendations for prioritizing the various potential work items. Staff will review from [draft analyses prepared for Amendment 19,] an action to address timing issues for fishery specifications, and advisors will identify preferred alternative recommendations. Staff will review progress on planning of a future workshop to discuss issues about potential inshore depletion. Finally, staff will review preliminary input from the PDT based on a Council motion to evaluate how to potentially improve information collected by observers on discard mortality and high grading as well as review Advisory Panel recommendations. Other business may be discussed.

Special Accommodations

This meeting is physically accessible to people with disabilities. Requests for sign language interpretation or other auxiliary aids should be directed to Thomas A. Nies, Executive Director, at 978-465-0492, at least 5 days prior to the meeting date.

Authority: 16 U.S.C. 1801 et seq.

Dated: August 27, 2015.
Tracey L. Thompson,
Acting Deputy Director, Office of Sustainable Fisheries, National Marine Fisheries Service.

[FR Doc. 2015-21586 Filed 8-31-15; 8:45 am]

BILLING CODE 3510-22-P